DEPARTMENT OF THE INTERIOR

Geological Survey

[GX23ND00COM000P; OMB Control Number 1028-NEW]

Agency Information Collection Activities: Great Lakes Inventory Survey To Facilitate Coregonine Science, Conservation, and Restoration

AGENCY: U.S. Geological Survey, Interior.

ACTION: Notice of Information Collection; request for comment.

SUMMARY: In accordance with the Paperwork Reduction Act of 1995 (PRA), the U.S. Geological Survey (USGS) is requesting approval of an existing collection without an OMB control number.

DATES: Interested persons are invited to submit comments on or before January 3, 2023.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Brian Weidel by email at bweidel@usgs.gov or by telephone at (315) 343-3951. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The Coregonine Restoration Framework is a multiagency conservation plan for conducting the science and management actions to preserve the most abundant native fishes in the Great Lakes. To inform the science methodology of that framework, the USGS will survey Great Lakes fishery scientists from state, tribal, academic, and non-government institutions about the fishery-dependent or fishery-independent field surveys that their organizations conduct in the lakes and connecting channels. Examples of information to be collected about a fishery survey include geographic area, the time period covered, survey design, measurements collected, life stages of fish targeted, number of samples per year, and basic catch proportions for native coregonine (Coregonus sp.) fishes. This information is needed to recommend which types of native fish population and conservation models can be developed with existing survey data and identify necessary information not provided by contemporary surveys. The survey results will be published and inform analyses, and the resulting analyses will be presented in a white paper to contributing fishery institutions and management agencies.

Title of Collection: Great Lakes Inventory Survey to Facilitate Coregonine Science, Conservation, and Restoration.

OMB Control Number: 1028-NEW.

Form Number: None.

Type of Review: NEW.

Respondents/Affected Public: State agencies, tribal governments, academic institutions, and non-government institutions that conduct, or have conducted, annual surveys of Great Lakes fishes.

Total Estimated Number of Annual Respondents: 83.

Total Estimated Number of Annual Responses: 83.

Estimated Completion Time per Response: 30 minutes on average.

Total Estimated Number of Annual Burden Hours: 42.

Respondent's Obligation: Voluntary.

Frequency of Collection: One time.

Total Estimated Annual Nonhour Burden Cost: 0.

An agency may not conduct, sponsor, nor is a person required to respond to, a collection of information unless it displays a currently valid OMB control number.

The authority for this action is the PRA (44 U.S.C. 3501 et seq).

Kurt Newman,
Acting Great Lakes Science Center Director, U.S. Geological Survey.

[FR Doc. 2022-23806 Filed 11-3-22; 8:45 am]

BILLING CODE 4338-11-P